DEPARTMENT OF THE TREASURY

Submission for OMB Review; Comment Request

October 16, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 23, 2001 to be assured of consideration.

Bureau of Alcohol, Tobacco and Firearms (BATF)

OMB Number: 1512-0337.

Recordkeeping Requirement ID Number: ATF REC 5150/1.

Type of Review: Extension.

Title: Usual and Customary Business Records Relating to Denatured Spirits.

Description: Denatured Spirits are used for nonbeverage industrial purposes in the manufacture of personal household products. Records ensure spirits accountability. Tax revenue and public safety are protected.

Respondents: Business or other for-profit, State, Local or Tribal Government.

Estimated Number of Recordkeepers: 3,111.

Estimated Burden Hours Per Recordkeeper: 0.

Frequency of Response: On occasion.

Estimated Total Recordkeeping Burden: 1 hour.

OMB Number: 1512-0363.

Recordkeeping Requirement ID Number: ATF REC 5210/6.

Type of Review: Extension.

Title: Tobacco Products Manufacturers—Supporting Records for Removals for the Use of the United States.

Description: Used by tobacco products manufacturers to record removals of tobacco products for use of the United States. Used by ATF to verify that removals were tax exempt. Needed to trace transactions for protection of the revenue.

Respondents: Business or other for-profit.

Estimated Number of Recordkeepers: 101.

Estimated Burden Hours Per Recordkeeper: 5 hours.

Frequency of Response: On occasion.

Estimated Total Recordkeeping Burden: 505 hours.

OMB Number: 1512-0373.

Recordkeeping Requirement ID Number: ATF REC 5400/3.

Type of Review: Extension.

Title: RECORDS AND SUPPORTING DATA: Importation, Receipt, Storage, and Disposition by Licensed Explosives Manufacturers, Importers, Dealers, and Users.

Description: These records show daily activities in the importation, manufacture, receipt, storage, and disposition of all explosive materials covered under 18 U.S.C. Chapter 40. The records are used to show where and to whom explosives materials are sent, thereby ensuring that any diversions will be readily apparent and, if lost or stolen, ATF will be immediately notified.

Respondents: Business or other for-profit.

Estimated Number of Recordkeepers: 10,519.

Estimated Burden Hours Per Respondent: 6 minutes.

Frequency of Response: On occasion.

Estimated Total Recordkeeping Burden: 132,754 hours.

OMB Number: 1512-0391.

Recordkeeping Requirement ID Number: ATF REC 5210/10.

Type of Review: Extension.

Title: Tobacco—Record of Disposition of More than 60,000 Cigarettes in a Single Transaction.

Description: Records must be maintained by tobacco products manufacturers and cigarette distributors showing details of large cigarette transactions. The records are also used to trace the movement of contraband cigarettes and helps curtail the illicit traffic in cigarettes between states.

Respondents: Business or other for-profit.

Estimated Number of Recordkeepers: 9,500.

Estimated Burden Hours Per Recordkeeper: 120 hours.

Frequency of Response: On occasion.

Estimated Total Recordkeeping Burden: 1,140,000 hours.

Clearance Officer: Frank Bowers (202) 927-8930, Bureau of Alcohol, Tobacco and Firearms, Room 3200, 650 Massachusetts Avenue, NW, Washington, DC 20226.

OMB Reviewer: Alexander T. Hunt (202) 395-7860, Office of Management and Budget, Room 10202, New Executive Office Building, Washington, DC 20503.

Lois K. Holland,
Departmental Reports Management Officer.

[FR Doc. 01-26805 Filed 10-23-01; 8:45 am]

BILLING CODE 4810-31-P